DEPARTMENT OF HEALTH AND HUMAN SERVICES

Health Resources and Services Administration

Solicitation of Nominations for Membership To Serve on the National Advisory Council on Nurse Education and Practice

AGENCY: Health Resources and Services Administration (HRSA), Department of Health and Human Services (HHS).

ACTION: Request for nominations.

SUMMARY: HRSA is seeking nominations of qualified candidates for consideration for appointment as members of the National Advisory Council on Nurse Education and Practice (NACNEP) or Advisory Council. NACNEP provides advice and recommendations to the Secretary of HHS (Secretary) on policy, program development, and other matters of significance concerning the activities under Title VIII of the Public Health Service (PHS) Act, as amended. NACNEP also prepares and submits an annual report to the Secretary and Congress describing its activities, including NACNEP's findings and recommendations concerning activities under Title VIII, as required by the PHS Act. HRSA is seeking nominations of qualified candidates to fill positions on NACNEP as they become available.

Authority: NACNEP is authorized by section 851 of the PHS Act (42 U.S.C. 297t), as amended. The Federal Advisory Committee Act of 1972 (5 U.S.C. App.), as amended, which sets forth standards for the formation and use of advisory committees, shall apply to the Advisory Council under this section only to the extent that the provisions of such Act do not conflict with the requirements of this section.

DATES: Written nominations for membership on NACNEP will be accepted on a continuous basis.

ADDRESSES: Nomination packages may be submitted electronically by email to BHWAdvisoryCouncil@hrsa.gov. Nomination packages may also be submitted by mail addressed to Advisory Council Operations, Bureau of Health Workforce, HRSA, 5600 Fishers Lane, Room 15W10, Rockville, Maryland 20857.

FOR FURTHER INFORMATION CONTACT: Camillus Ezeike, Ph.D., JD, LLM, RN, PMP, RAC, Designated Federal Officer, NACNEP, by phone at (301) 443-2866, or by email at BHWNACNEP@hrsa.gov. A copy of the NACNEP charter and a list of the current membership may be obtained by accessing the NACNEP website at https://www.hrsa.gov/advisory-committees/nursing/index.html.

SUPPLEMENTARY INFORMATION: NACNEP advises and makes recommendations to the Secretary and Congress on policy matters arising in the administration of Title VIII of the PHS, including the range of issues relating to the nurse workforce, nursing education, and nursing practice improvement, as a means of enhancing the health of the public through the development of the nurse workforce. NACNEP meets at least twice each calendar year, or may meet more frequently at the discretion of the Designated Federal Officer in consultation with the Chair.

Nominations: HRSA is requesting nominations for voting members to serve as Special Government Employees (SGEs) on NACNEP to fill open positions. The Secretary appoints NACNEP members with the expertise needed to fulfill the duties of the Advisory Council. The membership requirements are set forth at section 851(b) of Title VIII of the PHS Act, as amended.

Nominees sought are individuals representing leading authorities in the various fields of nursing, higher and secondary education, and associate degree schools of nursing; representatives of advanced education nursing groups (such as nurse practitioners, nurse midwives, clinical nurse specialists, and nurse anesthetists); hospitals and other institutions and organizations which provide nursing services; practicing professional nurses; the general public; and full-time students enrolled in schools of nursing. In making such appointments, the Secretary shall ensure a fair balance between the nursing specialties, a broad geographic representation of members, and a balance between urban and rural members. Members shall be appointed based on their competence, interest, and knowledge of the mission of the profession involved. As required by PHS Act section 851(b)(3), the Secretary shall ensure the adequate representation of minorities, including: Hispanics/Latinos, African Americans, American Indians/Alaska Natives, and Asian Americans and Pacific Islanders. HRSA is particularly interested in seeking nominations from individuals who can represent these and other minority or underrepresented groups in the nursing profession, including but not limited to: Male nursing students and professionals; persons with disabilities; and lesbian, gay, bisexual, transgender, and queer persons.

The majority of the NACNEP members shall be nurses. Interested applicants may self-nominate or be nominated by another individual or organization.

Individuals selected for appointment to the Advisory Council will be invited to serve a term of 4 years. Members appointed as SGEs receive a stipend and reimbursement for per diem and travel expenses incurred for attending NACNEP meetings and/or conducting other business on behalf of the NACNEP, as authorized by 5 U.S.C. 5703 for persons employed intermittently in government service.

The following information must be included in the package of materials submitted for each individual nominated for consideration: (1) A letter of nomination from an employer, a colleague, or a professional organization stating the name, affiliation, and contact information for the nominee, the basis for the nomination (i.e., what specific attributes, perspectives, and/or skills does the individual possess that would benefit the workings of NACNEP, and the nominee's field(s) of expertise); (2) A letter of interest from the nominee stating the reasons they would like to serve on NACNEP; (3) A biographical sketch of the nominee, a copy of their curriculum vitae, and their contact information (address, daytime telephone number, and email address); and (4) The name, address, daytime telephone number, and email address at which the nominator can be contacted. Nomination packages may be submitted directly by the individual being nominated or by the person/organization recommending the candidate.

HHS endeavors to ensure that the membership of NACNEP is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Individuals who are selected to be considered for appointment will be required to provide detailed information regarding their financial holdings, consultancies, and research grants or contracts. Disclosure of this information is required in order for HRSA ethics officials to determine whether there is a potential conflict of interest between the SGE's public duties as a member of the NACNEP and their private interests, including an appearance of a loss of impartiality as defined by federal laws and regulations, and to identify any required remedial action needed to address the potential conflict.

Maria G. Button,
Director, Executive Secretariat.

[FR Doc. 2021-25516 Filed 11-22-21; 8:45 am]

BILLING CODE 4165-15-P